DEPARTMENT OF COMMERCE

National Oceanic and Atmospheric Administration

RIN 0648-XC225

Mid-Atlantic Fishery Management Council (MAFMC); Public Meeting

AGENCY: National Marine Fisheries Service (NMFS), National Oceanic and Atmospheric Administration (NOAA), Commerce.

ACTION: Notice of a public meeting.

SUMMARY: The Spiny Dogfish Monitoring Committee of the Mid-Atlantic Fishery Management Council (Council) will hold a meeting.

DATES: The Monitoring Committee will meet Wednesday, October 3, 2012 beginning at 10 a.m. and concluding by 3 p.m.

ADDRESSES: The meeting will be held at the Hilton Garden Inn, 1 Thurber Street, Warwick, RI 02886; telephone: (401) 734-9600.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Spiny Dogfish Monitoring Committee will develop annual catch target (ACT) and other management measure recommendations for the 2013-17 fishing years based on consideration of allowable biological catch (ABC) and sources of management uncertainty.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: September 6, 2012.
Tracey L. Thompson,
Acting Deputy Director, Office of Sustainable Fisheries, National Marine Fisheries Service.

[FR Doc. 2012-22345 Filed 9-10-12; 8:45 am]

BILLING CODE 3510-22-P